DEPARTMENT OF HEALTH AND HUMAN SERVICES

National Institutes of Health

Center for Scientific Review; Amended Notice of Meeting

Notice is hereby given of a change in the meeting of the Cellular Signaling and Regulatory Systems Study Section, October 21, 2013, 8:00 a.m. to October 21, 2013, 5:00 p.m., Hotel Nikko San Francisco, 222 Mason Street, San Francisco, CA, 94102 which was published in the Federal Register on September 26, 2013, 78 FR 59361.

The meeting will be held at the Renaissance Washington DC, Dupont Circle Hotel, 1143 New Hampshire Avenue NW., Washington, DC 20037 on December 4, 2013, starting at 8:00 a.m. and ending at 6:00 p.m. The meeting is closed to the public.

Dated: October 28, 2013.
Anna Snouffer,
Deputy Director, Office of Federal Advisory Committee Policy.

[FR Doc. 2013-25917 Filed 10-30-13; 8:45 am]

BILLING CODE 4140-01-P